DEPARTMENT OF COMMERCE

Foreign-Trade Zones Board

[Docket 49-2010]

Foreign-Trade Zone 181—Akron/Canton, OH; Application for Reorganization Under Alternative Site Framework

An application has been submitted to the Foreign-Trade Zones (FTZ) Board (the Board) by the Northeast Ohio Trade & Economic Consortium, grantee of FTZ 181, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 17, 2010.

FTZ 181 was approved by the Board on December 23, 1991 (Board Order 546, 57 FR 41, 1/2/1992) and expanded on: June 20, 1997 (Board Order 902, 62 FR 36044, 7/3/1997); March 30, 1998 (Board Order 968, 63 FR 16962, 4/7/1998); September 13, 1999 (Board Order 1053, 64 FR 51291, 9/22/1999); November 21, 2002 (Board Order 1260, 67 FR 71933, 12/3/2002); May 19, 2004 (Board Order 1334, 69 FR 30281-30282, 5/27/2004); September 28, 2006 (Board Order 1479, 71 FR 59072, 10/6/2006); December 11, 2006 (Board Order 1493, 71 FR 71507-71508, 12/11/2006); and, August 23, 2007 (Board Order 1522, 72 FR 8/31/2007).

The current zone project includes the following sites: Site 1: (158 acres) Within the Akron-Canton Regional Airport, CAK International Business Park, Green (Summit County); Site 2: (3 acres) located at 8400 Port Jackson Avenue, Jackson Township (Summit County); Site 3:

(21 acres) located at 3175, 3325 & 3375 Gilchrist Road, Mogadore (Summit County); Site 4: (30 acres) Terminal Warehouse facility, 1779 Marvo Drive, Akron (Summit County); Site 5: (191 acres) Prosper Industrial Park, Stow (Summit County); Site 6: (444 acres) within the Youngstown-Warren Regional Airport (Trumbull County); Site 7: (258 acres) River Road Industrial Park (Trumbull County); Site 8: (50 acres) within the Warren Commerce Park (Trumbull County); Site 9: (200 acres) within the Allied Industrial Park (Mahoning County); Site 10: (19 acres) Port Terminal Facility, 1250 St. George Street, East Liverpool (Columbiana County); Site 11: (60 acres) Leetonia Industrial Park, State Route 344, Leetonia (Columbiana County); Site 12: (66 acres) Intermodal Industrial Park Port Facility, Wellsville (Columbiana County); Site 13: (806 acres) Neocom Industrial Park (Stark County Intermodal Facility), 5000 Maryland Avenue, SW., Navarre, Stark County; Site 14: (60 acres) within the MDF Industrial Park located on the southeast side of the city of Massillon (Stark County); Site 15: (12 acres) located at 8045 Navarre Road, SW., Massillon, operated by Peoples Cartage (Stark County); Site 16: (4 acres) within the 18-acre warehouse facility of Peoples Cartage, Inc., located at 2207 Kimball Road, SE., Canton (Stark County); Site 17: (158 acres) Sawburg Commerce Industrial Park on the west side of Alliance (Stark County); Site 18: (38 acres) Detroit Diesel warehouse located at 515 11th Street, SE., Canton (Stark County); Site 19: (5 acres) I-77/US 30 Center, located at 1141 Navarre Road, SW. (Stark County); Site 20: (142 acres) Canton Commerce Dev. LLC, I-77 & Faircrest Road (Stark County); Site 21: (3 acres) Dillard Property/RRR Development located at 8817 Pleasantwood Avenue, NW., Lake Township (Stark County); Site 22: (2,068 acres) Mansfield Lahm Airport complex, State Route 13 at South Airport Road, Mansfield; Site 23: (309 acres) Pinney Dock and Transport Company, Inc. facility located at 1149 East 5th Street, Ashtabula (Ashtabula County); Site 24: (111 acres) Beacon Transportation Park between I-71 and I-76, Seville (Medina County); Site 25: (38 acres) Brunswick Commerce Center at the intersection of Route 303 and I-71, Brunswick (Medina County); Site 26: (51 acres) Portside Corporate Park, located at 2200 Akron-Medina Road, Sharon Township (Medina County); Site 27: (47 acres) Wadsworth Corporate Park, Wadsworth (Medina County); and, Site 28: (141 acres) Route 30 Industrial Park, State Route 30, Wooster (Wayne County).

The grantee's proposed service area under the ASF would be Ashtabula, Trumbull, Mahoning, Columbiana, Portage, Summit, Stark, Medina, Wayne and Richland Counties, Ohio, as described in the application. If approved, the grantee would be able to serve sites throughout the service area based on companies' needs for FTZ designation. The proposed service area is adjacent to the Cleveland Customs and Border Protection port of entry.

The applicant is requesting authority to reorganize and expand its existing zone project to include existing Sites 1, 3-6, and 8-27 as “magnet” sites, as well as to remove Sites 2, 7 and 28. The ASF allows for the possible exemption of one magnet site from the “sunset” time limits that generally apply to sites under the ASF, and the applicant proposes that Site 1 be so exempted. The applicant has also requested that Site 1 be expanded to include an additional 193 acres. In addition, the applicant is requesting approval of the following new “magnet” site: Proposed Site 29: (71 acres) Albrecht Inc., 2700 and 2850 Gilchrist Road, Akron (Summit County). Because the ASF only pertains to establishing or reorganizing a general-purpose zone, the application would have no impact on FTZ 181's authorized subzone.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is October 22, 2010. Rebuttal comments in response to material submitted during the foregoing period may be submitted during the subsequent 15-day period to November 8, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Elizabeth Whiteman at Elizabeth.Whiteman@trade.gov or (202) 482-0473.

Dated: August 17 2010.
Andrew McGilvray,
Executive Secretary.

[FR Doc. 2010-20902 Filed 8-20-10; 8:45 am]

BILLING CODE P